DEPARTMENT OF THE TREASURY

Submission for OMB Review; Comment Request

September 14, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

Dates: Written comments should be received on or before October 22, 2001 to be assured of consideration.

Internal Revenue Service (IRS)

OMB Number: 1545-0021.

Form Number: IRS Form 709-A.

Type of Review: Extension.

Title: United States Short Form Gift Tax Return.

Description: Form 709 is used to report gifts that would be taxable except that they are “split” between husband and wife. The form is a simplified version of Form 709, designed to relieve these gift/taxpayers of the burden of filing Form 709. IRS uses the information to assure that “gift-splitting” was properly elected.

Respondents: Individuals or households.

Estimated Number of Respondents/Recordkeepers: 45,000.

Estimated Burden Hours Per Respondent/Recordkeeper:

Recordkeeping | 13 min.
Learning about the law or the form | 11 min.
Preparing the form | 14 min.
Copying, assembling, and sending the form to the IRS | 20 min.

Frequency of Response: Annually.

Estimated Total Reporting/Recordkeeping Burden: 44,100 hours.

Clearance Officer: Garrick Shear, Internal Revenue Service, Room 5244, 1111 Constitution Avenue, NW, Washington, DC 20224.

OMB Reviewer: Alexander T. Hunt, (202) 395-7860, Office of Management and Budget, Room 10202, New Executive Office Building, Washington, DC 20503.

Lois K. Holland,
Departmental Reports Management Officer.

[FR Doc. 01-23509 Filed 9-19-01; 8:45 am]

BILLING CODE 4830-01-P